DEPARTMENT OF COMMERCE

International Trade Administration

[A-357-812]

Notice of Antidumping Duty Order; Honey From Argentina

AGENCY: Import Administration, International Trade Administration, Department of Commerce.

ACTION: Notice of Antidumping Duty Orders.

EFFECTIVE DATE: December 10, 2001.

FOR FURTHER INFORMATION CONTACT: Melissa Blackledge at (202) 482-3518 or Donna Kinsella at (202) 482-0194, Antidumping and Countervailing Duty Enforcement Group III, Import Administration, International Trade Administration, U.S. Department of Commerce, 14th Street and Constitution Avenue, NW., Washington, DC 20230.

Applicable Statute and Regulations: Unless otherwise indicated, all citations to the statute are references to the provisions effective January 1, 1995, the effective date of the amendments made to the Tariff Act of 1930 (the Tariff Act) by the Uruguay Round Agreements Act. In addition, unless otherwise indicated, all citations to the Department of Commerce's (the Department's) regulations refer to the regulations codified at 19 CFR part 351 (2000).

Scope of the Order

For purposes of this order, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90, and 2106.90.99 of the Harmonized Tariff Schedule of the United States (HTSUS). Although the HTSUS subheadings are provided for convenience and U.S. Customs Service (U.S. Customs) purposes, the Department's written description of the merchandise under investigation is dispositive.

Antidumping Duty Order

In accordance with section 735(a) of the Tariff Act, as amended, the Department made its final determination that honey from Argentina is being sold at less than fair value (see Notice of Final Determination of Sales at Less Than Fair Value: Honey From Argentina, 66 FR 50611 (October 4, 2001)). On November 9, 2001, the Department issued an amended final determination (see Notice of Amended Final Determination of Sales at Less Than Fair Value: Honey, 66 FR 58434 (November 21, 2001)). On November 13, 2001, the International Trade Commission (the Commission) notified the Department of its final determination pursuant to section 735(b)(1)(A)(i) of the Tariff Act that an industry in the United States is materially injured by reason of less-than-fair-value imports of subject merchandise from Argentina.

In accordance with section 736(a)(1) of the Tariff Act, the Department will direct Customs officers to assess, upon further advice by the Department, antidumping duties equal to the amount by which the normal value of the merchandise exceeds the export price (or constructed export price) of the merchandise for all relevant entries of honey from Argentina. These antidumping duties will be assessed on all unliquidated entries of honey from Argentina entered, or withdrawn from warehouse, for consumption on or after May 11, 2001, the date on which the Department published its notice of preliminary determination in the Federal Register (66 FR 24108). Effective on the date of publication of the order, customs officers must require, at the same time as importers would normally deposit estimated duties on this merchandise, a cash deposit equal to the estimated weighted-average antidumping duty margins as noted below. The “All Others” rate applies to all exporters of honey not specifically listed.

Article VI.5 of the General Agreement on Tariffs and Trade (GATT 1994) prohibits assessing antidumping duties on the portion of the margin attributable to an export subsidy. In this case, the product under investigation is subject to a countervailing duty investigation. See Notice of Final Affirmative Countervailing Duty Determination: Honey from Argentina, 66 FR 50613 (October 4, 2001). Therefore, for all entries of honey from Argentina entered, or withdrawn from warehouse, for consumption on or after the date on which the order in the companion countervailing duty investigation is published in the Federal Register, we will request for duty deposit purposes that the Customs Service deduct the portion of the margin attributable to export subsidies as determined in the countervailing duty investigation. The antidumping duty cash deposit rates, as adjusted for export subsidies, are as follows:

Producer/manufacturer/exporter | Cash deposit rate (percent)
Asociacion Cooperativas Argentinas (ACA) | 31.92
Radix S.R.L. (Radix) | 27.04
ConAgra Argentina | 55.15
All Others | 30.24

This notice constitutes the antidumping duty order with respect to honey from Argentina. Interested parties may contact the Department's Central Records Unit, room B-099 of the main Commerce building, for copies of an updated list of antidumping duty orders currently in effect.

This order is published in accordance with section 736(a) of the Tariff Act.

Dated: November 30, 2001.
Richard W. Moreland,
Acting Assistant Secretary for Import Administration.

[FR Doc. 01-30469 Filed 12-7-01; 8:45 am]

BILLING CODE 3510-DS-P